DEPARTMENT OF DEFENSE

Department of the Army, Corps of Engineers

33 CFR Part 334

United States Marine Corps Restricted Area and Danger Zone, Neuse River and Tributaries, Marine Corps Air Station Cherry Point, NC

AGENCY: United States Army Corps of Engineers, DoD.

ACTION: Notice of proposed rulemaking and request for comments.

SUMMARY: The Corps of Engineers is proposing to amend its regulations to designate an existing rifle range fan as a danger zone. The military exercise area is located within the Rifle Range of Marine Corps Air Station Cherry Point, North Carolina, along the Neuse River. The danger zone will only be activated by the Marine Corps Air Station Cherry Point during range operational hours. The Marine Corps will advise residents in the vicinity of the range fan thus ensuring their safety by alerting them to temporary potential hazardous conditions which may exist as a result of small arms exercises. There will be no change in the use of the existing exercise area. The area, however, needs to be marked on navigation charts to insure security and safety for the public. Entry points into the danger zone will be prominently marked with signage indicating the boundary of the danger zone. The placement of aids to navigation and regulatory markers will be installed in accordance with the requirements of the United States Coast Guard. If the proposed signage exceeds nationwide permit and/or regional general permit conditions, the Commander, United States Marine Corps, Marine Corps Air Station Cherry Point, North Carolina will seek additional Department of the Army authorizations.

DATES: Written comments must be submitted on or before May 25, 2007.

ADDRESSES: You may submit comments, identified by docket number COE-2007-0011, by any of the following methods:

Federal eRulemaking Portal: http://www.regulations.gov. Follow the instructions for submitting comments.

E-mail: david.b.olson@usace.army.mil. Include the docket number, COE-2007-0011, in the subject line of the message.

Mail: U.S. Army Corps of Engineers, ATTN: CECW-CO (David B. Olson), 441 G Street, NW., Washington, DC 20314-1000.

Hand Delivery/Courier: Due to security requirements, we cannot receive comments by hand delivery or courier.

Instructions: Direct your comments to docket number COE-2007-0011. All comments received will be included in the public docket without change and may be made available on-line at http://www.regulations.gov, including any personal information provided, unless the commenter indicates that the comment includes information claimed to be Confidential Business Information (CBI) or other information whose disclosure is restricted by statute. Do not submit information that you consider to be CBI or otherwise protected through http://www.regulations.gov or e-mail. The http://www.regulations.gov Web site is an anonymous access system, which means we will not know your identity or contact information unless you provide it in the body of your comment. If you send an e-mail directly to the Corps without going through http://www.regulations.gov, your e-mail address will be automatically captured and included as part of the comment that is placed in the public docket and made available on the Internet. If you submit an electronic comment, we recommend that you include your name and other contact information in the body of your comment and with any disk or CD-ROM you submit. If we cannot read your comment because of technical difficulties and cannot contact you for clarification, we may not be able to consider your comment. Electronic comments should avoid the use of any special characters, any form of encryption, and be free of any defects or viruses.

Docket: For access to the docket to read background documents or comments received, go to www.regulations.gov. All documents in the docket are listed. Although listed in the index, some information is not publicly available, such as CBI or other information whose disclosure is restricted by statute. Certain other material, such as copyrighted material, is not placed on the Internet and will be publicly available only in hard copy form.

Consideration will be given to all comments received within 30 days of the date of publication of this notice.

FOR FURTHER INFORMATION CONTACT: Mr. David Olson, Headquarters, Operations and Regulatory Community of Practice, Washington, DC at (202) 761-4922, Mr. Scott Jones, Corps of Engineers, Wilmington District, Regulatory Branch, at (252) 975-1616, or Ms. Tracey Wheeler, Corps of Engineers, Wilmington District, Regulatory Branch, at (252) 975-1616.

SUPPLEMENTARY INFORMATION: Pursuant to its authorities in Section 7 of the Rivers and Harbors Act of 1917 (40 Stat. 266; 33 U.S.C. 1) and Chapter XIX of the Army Appropriations Act of 1919 (40 Stat. 892; 33 U.S.C. 3), the Corps proposes to amend 33 CFR 334.430 by adding a danger zone along the Neuse River as described below. The regulations governing the restricted area are not proposed to be changed.

Procedural Requirements

a. Review Under Executive Order 12866

This proposed rule is issued with respect to a military function of the Defense Department and the provisions of Executive Order 12866 do not apply.

b. Review Under the Regulatory Flexibility Act

This proposed rule has been reviewed under the Regulatory Flexibility Act (Pub. L. 96-354) which requires the preparation of a regulatory flexibility analysis for any regulation that will have a significant economic impact on a substantial number of small entities (i.e., small businesses and small governments). Unless information is obtained to the contrary during the public notice comment period, the Corps expects that the establishment of this danger zone would have practically no economic impact on the public, result in no anticipated navigational hazard, or interfere with existing waterway traffic. This proposed rule, if adopted, will have no significant economic impact on small entities.

c. Review Under the National Environmental Policy Act

Due to the administrative nature of this action and because there is no intended change in the use of the area, the Corps expects that this regulation, if adopted, will not have a significant impact to the quality of the human environment and, therefore, preparation of an environmental impact statement will not be required. An environmental assessment will be prepared after the public notice period is closed and all comments have been received and considered. The environmental assessment may be reviewed at the District office listed at the end of FOR FURTHER INFORMATION CONTACT, above.

d. Unfunded Mandates Act

This proposed rule does not impose an enforceable duty on the private sector and, therefore, it is not a Federal private sector mandate and it is not subject to the requirements of either Section 202 or Section 205 of the Unfunded Mandates Act. We have also found under Section 203 of the Act that small governments will not be significantly and uniquely affected by this rulemaking.

List of Subjects in 33 CFR Part 334

Danger zones, Marine safety, Navigation (water), Restricted areas, Waterways.

For the reasons set out in the preamble, the Corps proposes to amend 33 CFR part 334, as follows:

PART 334—DANGER ZONE AND RESTRICTED AREA REGULATIONS

1. The authority citation for part 334 continues to read as follows:

Authority: 40 Stat. 266 (33 U.S.C. 1) and 40 Stat. 892 (33 U.S.C. 3).

2. Section 334.430 is revised to read as follows:

§ 334.430 Neuse River and tributaries at Marine Corps Air Station Cherry Point, North Carolina; restricted area and danger zone.

(a) The restricted area. That portion of Neuse River within 500 feet of the shore along the reservation of the Marine Corps Air Station, Cherry Point, North Carolina, extending from the mouth of Hancock Creek to a point approximately 6,800 feet west of the mouth of Slocum Creek, and all waters of Hancock and Slocum Creeks and their tributaries within the boundaries of the reservation.

(b) The danger zone. The waters within an area beginning at latitude 34.923425° N, longitude—76.853222° W; thence northeasterly across Hancock Creek to latitude 34.925258° N, longitude—76.849864° W; continuing northeasterly to latitude 34.933382° N, longitude—76.835081° W; thence northwesterly to the Neuse River shoreline at latitude 34.936986° N, longitude—76.841197° W, continuing northwesterly to latitude 34.943275° N, longitude—76.852169° W; thence southwesterly along the shorelines to latitude 34.935111° N, longitude—76.859078° W; thence southeasterly along Hancock Creek shoreline to the point of origin.

(c) The regulations. (1) Except in cases of extreme emergency, all persons or vessels, other than those vessels operated by the U.S. Navy or Coast Guard, are prohibited from entering the restricted area or danger zone without prior permission of the enforcing agency.

(2) Entry points into the danger zone will be prominently marked with signage indicating the boundary of the danger zone.

(3) Firing will take place both day and night at irregular periods throughout the year. Appropriate warnings will be issued through official government and civilian channels serving the region. Such warnings will specify the time and duration of operations and give such other pertinent information as may be required in the interest of safety. Upon completion of firing or if the scheduled firing is cancelled for any reason, the warning signals marking the danger zone will be removed.

(4) Except as otherwise provided in this section, the danger zone will be open to general public access. Vessels, watercraft, and other vehicles may proceed through the danger zone.

(5) The regulations in this section shall be enforced by the Commanding Officer, Marine Corps Air Station Cherry Point, North Carolina, and/or persons or agencies as he/she may designate.

Lawrence A. Lang,
Acting Chief, Operations Directorate of Civil Works.

[FR Doc. E7-7901 Filed 4-24-07; 8:45 am]

BILLING CODE 3710-92-P